DEPARTMENT OF HEALTH AND HUMAN SERVICES

Food and Drug Administration

21 CFR Part 14

[Docket No. FDA-2017-N-6379]

Advisory Committee; Food Advisory Committee; Termination

AGENCY: Food and Drug Administration, HHS.

ACTION: Final rule.

SUMMARY: The Food and Drug Administration (FDA) is announcing the termination of the Food Advisory Committee. This document removes the Food Advisory Committee from the Agency's list of standing advisory committees.

DATES: This rule is effective December 13, 2017.

FOR FURTHER INFORMATION CONTACT: Karen Strambler, Center for Food Safety and Applied Nutrition (CFSAN), Food and Drug Administration, 5001 Campus Dr., Rm. 1C-008, College Park, MD 20740, 240-402-2589, Fax: 301-436-2637, karen.strambler@fda.hhs.gov.

SUPPLEMENTARY INFORMATION: The Food Advisory Committee (the Committee) was established on March 6, 1992 (57 FR 8064). The Committee provides advice to the Commissioner of Food and Drugs and other appropriate officials on emerging food and cosmetic safety, food science, nutrition, and other food-related health issues that FDA considers of primary importance for its food and cosmetics programs. The Committee may also be asked to provide advice and make recommendations on ways of communicating to the public the potential risks associated with these issues and on approaches that might be considered for addressing the issues.

The Committee is no longer needed and will be terminated on December 12, 2017. Over the past several years, the Committee has met very infrequently, and the effort and expense of maintaining the Committee are no longer justified. Any relevant food issues in the future could be addressed by FDA's Science Board and/or FDA's Risk Communication Advisory Committee, with additional augmentation of expertise by appropriate subject matter experts serving as temporary members on either of those committees. In addition, CFSAN will continue to hold workshops, meetings, conferences, and webinars to engage with its stakeholders.

Under 5 U.S.C. 553(b)(3)(B) and (d) and 21 CFR 10.40(d) and (e), the Agency finds good cause to dispense with notice and public comment procedures and to proceed to an immediate effective date on this rule. Notice and public comment and a delayed effective date are unnecessary because the Committee is not being adequately used, and the final rule merely removes the name of the Food Advisory Committee from the list of standing advisory committees in § 14.100 (21 CFR 14.100).

Therefore, the Agency is amending § 14.100(f) as set forth in the regulatory text of the document.

List of Subjects in 21 CFR Part 14

Administrative practice and procedure, Advisory committee, Color additives, Drugs, Radiation protection.

Therefore, under the Federal Food, Drug, and Cosmetic Act and under authority delegated to the Commissioner of Food and Drugs, 21 CFR part 14 is amended as follows:

PART 14—PUBLIC HEARING BEFORE A PUBLIC ADVISORY COMMITTEE

1. The authority citation for part 14 continues to read as follows:

Authority: 5 U.S.C. App. 2; 15 U.S.C 1451-1461, 21 U.S.C. 41-50, 141-149, 321-394, 467f, 679, 821, 1034; 28 U.S.C. 2112; 42 U.S.C. 201, 262, 263b, 264; Pub. L. 107-109; Pub. L. 108-155; Pub. L. 113-54.

§ 14.100 [Amended]

2. Section 14.100 is amended by removing paragraph (f).

Dated: December 7, 2017.
Leslie Kux,
Associate Commissioner for Policy.

[FR Doc. 2017-26829 Filed 12-12-17; 8:45 am]

BILLING CODE 4164-01-P